DEPARTMENT OF DEFENSE

Office of the Secretary

[Docket ID: DoD-2018-OS-0100]

Privacy Act of 1974; System of Records

AGENCY: Office of the Secretary of Defense, DoD.

ACTION: Notice of a modified system of records.

SUMMARY: The Office of the Secretary of Defense proposes to modify a system of records, DoD Postsecondary Education Complaint System, DPR 44 DoD. This system of records provides Uniformed Service Members, spouses, other family members the opportunity to file formal complaints when educational institutions fail to ensure that Federal military and veterans educational benefits programs are providing Service members, veterans, spouses, and other family members with information, support, and protections. This system of records is being modified to add more protections to ensure the privacy of each individual who submits a complaint, and when a complaint is submitted on behalf of an individual.

DATES: Comments will be accepted on or before January 18, 2019. This proposed action will be effective on the date following the end of the comment period unless comments are received which result in a contrary determination.

ADDRESSES: You may submit comments, identified by docket number and title, by any of the following methods:

• Federal Rulemaking Portal: http://www.regulations.gov.

Follow the instructions for submitting comments.

• Mail: Department of Defense, Office of the Chief Management Officer, Directorate of Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPDD), 1155 Defense Pentagon, Washington, DC 20301-1155, or by phone at (571) 372-0478.

SUPPLEMENTARY INFORMATION: The Office of the Secretary of Defense proposes to modify a system of records subject to the Privacy Act of 1974 (5 U.S.C. 552a). E.O. 13607, Establishing Principles of Excellence for Educational Institutions Serving Service Members, Veterans, Spouses, and Other Family Members, provides protections and enhances resources and support tools available to Service members and veterans using military tuition assistance and veterans using Post 9/11 and GI Bill benefits to pursue a higher education. The E.O. requires the DoD to ensure student protections are put into place for Service members, spouses, and other adult family members and to promptly revise regulations, instructions, guidance documents and memorandums of understanding. Additionally, E.O. 13607 encourages Federal agencies to expand oversight activities to better address military student concerns and to ensure military students and veterans receive quality educational opportunities in exchange for their federal education benefits. To ensure DoD student protections, the E.O. also directs the Secretaries of Defense, Veterans Affairs (VA), and Education, in consultation with the Directors of the Consumer Financial Protection Bureau (CFPB), the Department of Justice, and the Federal Trade Commission to develop a centralized complaint process for students receiving federal military and veteran educational benefits.

In July 2012, DoD and the aforementioned federal agencies designed a complaint intake form to be utilized by both DoD and VA to meet the Principles of Excellence (PoE) requirements. The DoD and VA intake forms contain the same data elements with slight variations as necessary to meet the requirements for both agencies respectively. DoD developed its Postsecondary Education Complaint Management System (PECS) to house the intake form and to monitor and manage incoming complaints. The DoD implemented both the Postsecondary Education Complaint Intake form (DD 2961) and the Postsecondary Education Complaint Management System on January 30, 2014.

The Office of the Secretary of Defense notices for systems of records subject to the Privacy Act of 1974, as amended, have been published in the Federal Register and are available from the address in FOR FURTHER INFORMATION CONTACT or at the Defense Privacy, Civil Liberties, and Transparency Division website at http://defense.gov/privacy. The proposed systems reports, as required by the Privacy Act of 1974, as amended, were submitted on October 30, 2018, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

Dated: December 13, 2018.
Shelly E. Finke,
Alternate OSD Federal Register Liaison Officer, Department of Defense.

SYSTEM NAME AND NUMBER

DoD Postsecondary Education Complaint System (PECS), DPR 44 DoD.

SECURITY CLASSIFICATION:

Unclassified.

SYSTEM LOCATION:

Integrated Network Operations and Security Center-East (INOSC-E), 37 Elm Street, Langley AFB, VA 23665-2800.

SYSTEM MANAGER(S):

Director, Voluntary Education, Office of the Assistant Secretary of Defense for Readiness (Force Education and Training), 1500 Pentagon, Washington, DC 20301-1500, phone: 571-372-0864.

AUTHORITY FOR MAINTENANCE OF THE SYSTEM:

Executive Order (E.O.) 13607, Establishing Principles of Excellence for Educational Institutions Serving Service Members, Veterans, Spouses, and Other Family Members; and DoD Instruction (DoDI) 1322.25, Voluntary Education Programs.

PURPOSE OF THE SYSTEM:

The DoD Postsecondary Education Complaint System (PECS) provides Uniformed Service Members, spouses, other family members the opportunity to file formal complaints when educational institutions fail to follow the Principles of Excellence outlined in E.O. 13607. The PECS serves as a collaborative environment that provides DoD personnel the ability to track, manage and process submitted complaints in order to meet the requirements of the E.O. and DoDI 1322.25. DoDI 1322.25 also establishes the need for PECS and instructs the Services on handling PECS complaints. The PECS data may also be used to perform statistical and program analysis.

CATEGORIES OF INDIVIDUALS COVERED BY THE SYSTEM:

Uniformed Service Members, spouses, other family members who file formal complaints pursuant to E.O. 13607.

CATEGORIES OF RECORDS IN SYSTEM:

Name, complaint case ID, DoD Identification (DoD ID) number, pay grade, address, country, phone number, age range, email address, service affiliation (Service Member, spouse or family member, veteran), service branch, service status, sponsor information (service status, service branch, and pay grade), type of education benefits used, school name and mailing address, level of study, amount of out-of-pocket tuition or government tuition credit paid (academic year), education center name, education center mailing address, complaint description and resolution, name and contact information of person submitting complaint on behalf of a covered individual.

RECORD SOURCE CATEGORIES:

Data is gathered from the individual or person submitting a complaint on behalf of a covered individual.

ROUTINE USES OF RECORDS MAINTAINED IN THE SYSTEM, INCLUDING CATEGORIES OF USERS AND THE PURPOSES OF SUCH USES:

In addition to those disclosures generally permitted under 5 U.S.C. 552a(b) of the Privacy Act of 1974, as amended, the records contained herein may specifically be disclosed outside the DoD as a routine use pursuant to 5 U.S.C. 552a(b)(3) as follows:

a. To the Federal Trade Commission Consumer Sentinel Network for access by the Departments of Veterans Affairs, Education, Justice, and the Consumer Financial Protection Bureau for compliance with Executive Order 13607, and potential enforcement efforts.

b. To schools listed in a complaint to aid in the resolution of a case.

c. To contractors, grantees, experts, consultants, students, and others performing or working on a contract, service, grant, cooperative agreement, or other assignment for the federal government when necessary to accomplish an agency function related to this system of records.

d. To the appropriate Federal, State, local, territorial, tribal, foreign, or international law enforcement authority or other appropriate entity where a record, either alone or in conjunction with other information, indicates a violation or potential violation of law, whether criminal, civil, or regulatory in nature.

e. To any component of the Department of Justice for the purpose of representing the DoD, or its components, officers, employees, or members in pending or potential litigation to which the record is pertinent.

f. In an appropriate proceeding before a court, grand jury, or administrative or adjudicative body or official, when the DoD or other agency representing the DoD determines the records are relevant and necessary to the proceeding; or in an appropriate proceeding before an administrative or adjudicative body when the adjudicator determines the records to be relevant to the proceeding.

g. To the National Archives and Records Administration for the purpose of records management inspections conducted under the authority of 44 U.S.C. 2904 and 2906.

h. To a Member of Congress or staff acting upon the Member's behalf when the Member or staff requests the information on behalf of, and at the request of, the individual who is the subject of the record.

i. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

j. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are maintained in electronic storage media.

POLICIES AND PRACTICES FOR RETRIEVAL OF RECORDS:

Information is retrieved by name or Complaint Case ID.

POLICIES AND PRACTICES FOR RETENTION AND DISPOSAL OF RECORDS:

System records are destroyed 3 years after the resolution of the case. Copies of closed complaint cases are transferred to the Federal Trade Commission Consumer Sentinel System.

ADMINISTRATIVE, PHYSICAL, AND TECHNICAL SAFEGUARDS:

Records are maintained on a guarded military installation in a secure building in a controlled area accessible only to authorized personnel. Physical entry is restricted by the use of cipher locks, passwords and administrative procedures which are changed periodically. The system is designed with access controls, comprehensive intrusion detection and virus protection. The application is accessed only by users who have authenticated with either DS Logon or Common Access Card (CAC). Access to any records in the system is further restricted to CAC authenticated users with role based privileges who require the data in the performance of their official duties and complete the annual information assurance and privacy training. Data is transmitted via Transport Layer Security (TLS) and Secure Sockets Layer (SSL) encryption to protect session information. Encrypted random tokens are implemented to protect against session hijacking attempts.

RECORD ACCESS PROCEDURES:

Individuals seeking access to information about themselves contained in this system of records should address written inquiries to the Office of the Secretary of Defense/Joint Staff Freedom of Information Act Requester Service Center, Washington Headquarters Services/Executive Services Directorate, 4800 Mark Center Drive, Alexandria, VA 22350-3100.

Signed, written requests must contain full name and/or Complaint Case ID, and the system ID and name of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The OSD rules for accessing records and for contesting contents and appealing initial agency determinations are published in OSD Administrative Instruction 81; 32 CFR part 311; or may be obtained from the system manager.

NOTIFICATION PROCEDURES:

Individuals seeking to determine whether information about themselves is contained in this system of records should address written inquiries to the Office of the Assistant Secretary of Defense for Readiness (Force Education), 1500 Pentagon, Washington, DC 20301-1500. Signed, written requests must contain full name and/or Complaint Case ID, and the system ID and name of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

January 10, 2014, 79 FR 1840.

[FR Doc. 2018-27416 Filed 12-18-18; 8:45 am]

BILLING CODE 5001-06-P